DEPARTMENT OF THE TREASURY

Internal Revenue Service

Open Meeting of the Taxpayer Advocacy Panel's Special Projects Committee: Correction

AGENCY: Internal Revenue Service (IRS), Treasury.

ACTION: Notice of meeting: Correction.

SUMMARY: In the Federal Register notice that was originally published on March 5, 2019, (Volume 84, Number 43, Page 7971) the meeting will be in Albuquerque, NM on Mountain Standard Time.

DATES: The meeting will be held Monday, March 18, 2019 and Tuesday, March 19, 2019.

FOR FURTHER INFORMATION CONTACT: Fred Smith at 1-888-912-1227 or (202) 317-3087.

SUPPLEMENTARY INFORMATION: Notice is hereby given pursuant to Section 10(a)(2) of the Federal Advisory Committee Act, 5 U.S.C. App. (1988) that an open meeting of the Taxpayer Advocacy Panel's Special Projects Committee will be held Monday, March 18, 2019, from 1:00 p.m. to 5:00 p.m. Mountain Time and Tuesday, March 19, 2019, from 8:00 a.m. until 5:00 p.m. Mountain Time, in Albuquerque, NM. The public is invited to make oral comments or submit written statements for consideration. Due to limited time and structure of meeting, notification of intent to participate must be made with Fred Smith. For more information please contact Fred Smith at 1-888-912-1227 or (202) 317-3087, or write TAP Office, 1111 Constitution Ave. NW, Room 1509, Washington, DC 20224 or contact us at the website: http://www.improveirs.org.

Dated: March 6, 2019.
Kevin Brown,
Acting Director, Taxpayer Advocacy Panel.

[FR Doc. 2019-04412 Filed 3-11-19; 8:45 am]

BILLING CODE 4830-01-P